DEPARTMENT OF COMMERCE

International Trade Administration

[A-533-810]

Stainless Steel Bar From India: Final Results of Antidumping Duty Administrative Review

AGENCY: Import Administration, International Trade Administration, Department of Commerce.

SUMMARY: On March 15, 2010, the Department of Commerce(the “Department”) published the preliminary results of the administrative review of the antidumping duty order on stainless steel bar (“SSB”) from India for the period February 1, 2008, through January 31, 2009. See Stainless Steel Bar From India: Preliminary Results of Antidumping Duty Administrative Review 75 FR 12199 (March 15, 2010) (“Preliminary Results”). The Department conducted a post-preliminary analysis and released the results of the analysis on May 19, 2010. We gave the interested parties an opportunity to comment on the Preliminary Results and the post-preliminary analysis. Based on our analysis of the comments received, we have made changes to the margin calculation. The final weighted-average dumping margins for the reviewed firms, Ambica Steels Limited (“Ambica”) and Venus Wire Industries Pvt. Ltd.,¹ are listed below in the section entitled “Final Results of Review.”

¹ For the reasons explained in the Preliminary Results, we have determined that Venus Wire Industries Pvt. Ltd. and its affiliates, Precision Metals and Sieves Manufacturers (India) Pvt. Ltd., should be treated as a single entity and collapsed for the purposes of this review. See Memorandum from Erika McDonald to the File, “Relationship of Venus Wire Industries Pvt. Ltd. and Sieves Manufacturers (India) Pvt. Ltd.,” dated September 15, 2009; see also Memorandum from Erika McDonald to the File, “Relationship of Venus Wire Industries Pvt. Ltd. and Precision Metals,” dated September 14, 2009. The collapsed entity is referred to as “Venus.”

DATES: Effective Date: September 3, 2010.

FOR FURTHER INFORMATION CONTACT: Patricia Tran, Seth Isenberg, or Austin Redington, AD/CVD Operations, Office 1, Import Administration, International Trade Administration, U.S. Department of Commerce, 14th Street and Constitution Avenue, NW., Washington DC 20230; telephone (202) 482-1503, (202) 482-0588, or (202) 482-1664, respectively.

SUPPLEMENTARY INFORMATION:

Background

In the Preliminary Results, we relied on “facts otherwise available” in determining that there was linkage between Venus' costs and prices, which resulted in Venus' antidumping margin being calculated using quarterly costs. We also noted in the Preliminary Results that we would reexamine this issue based on additional information submitted by the company. On May 19, 2010, we released our post-preliminary analysis in which we determined that the application of the quarterly costing methodology to Venus was not warranted because we did not find correlation between cost and price trends. See Memorandum from Susan Kuhbach through John M. Andersen to Ronald K. Lorentzen: “2008-2009 Administrative Review of the Antidumping Duty Order on Stainless Steel Bar From India—Post-Preliminary Analysis Calculation Memorandum for Venus Wire Industries Pvt. Ltd.” and “Memorandum From LaVonne Clark Through Theresa C. Deeley to Neal Halper: Cost of Production and Constructed Value Calculation Adjustments for the Post-Preliminary Results—Venus Wire Industries Pvt. Ltd.,” dated May 19, 2010.

On July 16, 2010, the Department published in the Federal Register an extension of the time limit for the completion of the final results of this review until no later than August 27, 2010, in accordance with section 751(a)(3)(A) of the Tariff Act of 1930, as amended (“the Act”), and 19 CFR 351.213(h)(2). See Stainless Steel Bar From India: Extension of Time Limit for the Final Results of the 2008-2009 Antidumping Duty Administrative Review, 75 FR 41438 (July 16, 2010).

We invited parties to comment on the Preliminary Results. We received case briefs on June 3, 2010, from Venus and June 7, 2010, from Carpenter Technology Corporation, Valbruna Slater Stainless, Inc., Electralloy Corporation, a Division of G.O. Carlson, Inc., Universal Stainless (“Petitioners”). On June 16, 2010, Venus submitted a rebuttal brief, and on June 18, 2010, Petitioners submitted a rebuttal brief. Ambica did not submit any comments. None of the parties requested a hearing.

Scope of the Order

Imports covered by the order are shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, orif 4.75 mm or more in thickness having a width which exceeds 150 mm and measures at least twice the thickness), wire (i.e., cold-formed products in coils, of any uniform solid cross section along their whole length, which do not conform to the definition of flat-rolled products), and angles, shapes, and sections.

The SSB subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of the order is dispositive.

On May 23, 2005, the Department issued a final scope ruling that SSB manufactured in the United Arab Emirates out of stainless steel wire rod from India is not subject to the scope of the order. See Memorandum from Team to Barbara E. Tillman, “Antidumping Duty Orders on Stainless Steel Bar From India and Stainless Steel Wire Rod from India: Final Scope Ruling,” dated May 23, 2005, which is on file in the Central Records Unit (“CRU”) in room 1117 in the main Department building. See also Notice of Scope Rulings, 70 FR 55110 (September 20, 2005).

Analysis of Comments Received

All issues raised in the case briefs are addressed in the “Issues and Decision Memorandum for the 2008-2009 Administrative Review of Stainless Steel Bar From India” (“Issues and Decision Memorandum”), which is dated concurrently with and hereby adopted by this notice. A list of the issues which parties raised and to which we responded in the Issues and Decision Memorandum is attached to this notice as an Appendix. The Issues and Decision Memorandum is a public document which is on file in the CRU, and is accessible on the web at http://www.ia.ita.doc.gov/frn. The paper copy and electronic version of the memorandum are identical in content.

Changes Since the Preliminary Results

Based on our analysis of the comments received, we made the following changes in calculating dumping margins: (1) We corrected a clerical error identified by Venus regarding its reporting of international freight expenses; (2) we adjusted the transfer price for the affiliated inputs to market price pursuant to section 773(f)(2) of the Act; and (3) we corrected a ministerial error of adding rather than deducting selling expenses from the home market price. See Issues and Decision Memorandum at Comments 2, 4, and 7. For further details on how these changes were applied in the calculation, see “Analysis for the Final Results of Antidumping Duty Administrative Review of Stainless Steel Bar From India: Venus Wire Industries Pvt. Ltd.,” dated August 27, 2010.

Final Results of the Review

We determine that the following weighted-average dumping margins exist for Venus and Ambica for the period February 1, 2008 through January 31, 2009.

Manufacturer/exporter | Weighted- average margin percent
Venus | ¹0.42
Ambica | 0.00
¹ de minimis.

Assessment Rates

The Department shall determine, and U.S. Customs and Border Protection (“CBP”) shall assess, antidumping duties on all appropriate entries, in accordance with 19 CFR 351.212(b)(1). The Department intends to issue appropriate assessment instructions for the companies subject to this review to CBP 15 days after the date of publication of these final results.

Pursuant to 19 CFR 351.212(b)(1), for all sales made by the respondent for which it has reported the importer of record and the entered value of all the U.S. sales to that importer, we have calculated importer-specific assessment rates based on the ratio of the total amount of antidumping duties calculated for the examined sales to the total entered value of those sales. Where the respondent did not report the entered value for all U.S. sales to an importer, we have calculated importer-specific assessment rates for the merchandise in question by aggregating the dumping margins calculated for all U.S. sales to each importer and dividing this amount by the total quantity of those sales.

To determine whether the duty assessment rates were de minimis (i.e., less than 0.50 percent) in accordance with the requirement set forth in 19 CFR 351.106(c)(2), we calculated importer-specific ad valorem rates based on reported and estimated entered values (when no entered value was reported). Where the assessment rate is above de minimis, we will instruct CBP to assess duties on all entries of subject merchandise by that importer. Pursuant to 19 CFR 351.106(c)(2), we will instruct CBP to liquidate without regard to antidumping duties any entries for which the assessment rate is de minimis.

Cash Deposit Requirements

The following deposit rates will be effective upon publication of the final results of this administrative review for all shipments of SSB from India entered, or withdrawn from warehouse, for consumption on or after the publication date, as provided by section 751(a)(2)(C) of the Act: (1) The cash deposit rates for the companies listed above will be the rates established in the final results of this review, except if the rate is less than 0.5 percent and, therefore, de minimis, the cash deposit will be zero; (2) for previously reviewed or investigated companies not listed above, the cash deposit rate will continue to be the company-specific rate published for the most recent final results in which that manufacturer or exporter participated; (3) if the exporter is not a firm covered in this review, a prior review, or the original less-than-fair-value (“LTFV”) investigation, but the manufacturer is, the cash deposit rate will be the rate established for the most recent final results for the manufacturer of the merchandise; and (4) if neither the exporter nor the manufacturer is a firm covered in this or any previous review conducted by the Department, the cash deposit rate will be 12.45 percent, the “all others” rate established in the LTFV investigation. See Notice of Final Determination of Sales at Less Than Fair Value: Stainless Steel Bar from India, 59 FR 66915 (December 28, 1994). These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i)(1) of the Act.

Dated: August 27, 2010.
Ronald K. Lorentzen,
Deputy Assistant Secretary for Import Administration.

Appendix—Issues in Decision Memorandum

Comment 1: Whether to Include Venus' Home Market Sample Sales

Comment 2: Correction of Clerical Error in Venus' Sales Database

Comment 3: Offsetting Negative Margins

Comment 4 Alleged Reporting Deficiencies for Venus and Sieves

Comment 5: Whether the Department Should Repeat its Linkage Test

Comment 6: Whether Linkage Exists Between Venus' and Sieves' Costs and Sales Prices

Comment 7: Ministerial Error

[FR Doc. 2010-22084 Filed 9-2-10; 8:45 am]

BILLING CODE 3510-DS-P